DEPARTMENT OF COMMERCE

International Trade Administration

[A-570-947]

Certain Steel Grating from the People's Republic of China: Postponement of Preliminary Determination of Antidumping Duty Investigation

AGENCY: Import Administration, International Trade Administration, Department of Commerce.

EFFECTIVE DATE: October 22, 2009.

FOR FURTHER INFORMATION CONTACT: Thomas Martin or Zhulieta Willbrand, AD/CVD Operations, Office 4, Import Administration, International Trade Administration, U.S. Department of Commerce, 14th Street and Constitution Avenue, NW, Washington, DC 20230; telephone: (202) 482-3936 or (202) 482-3147, respectively.

SUPPLEMENTARY INFORMATION:

Postponement of Preliminary Determination

On June 25, 2009, the Department of Commerce (“the Department”) initiated an antidumping duty investigation on certain steel grating from the People's Republic of China.¹ The notice of initiation stated that, unless postponed, the Department would issue its preliminary determination no later than 140 days after the date of issuance of the initiation, in accordance with section 733(b)(1)(A) of the Tariff Act of 1930, as amended (“the Act”). The preliminary determination is currently due no later than November 5, 2009.

¹ See Certain Steel Grating from the People's Republic of China: Initiation of Antidumping Duty Investigation, 74 FR 30273 (June 25, 2009)

As discussed below, we have determined that this investigation is extraordinarily complicated within the meaning of section 733(c)(1)(B)(i)(II) of the Act. Furthermore, we have determined that the parties concerned are cooperating, as required by section 733(c)(1)(B) of the Act, and that additional time is necessary to make this preliminary determination in accordance with section 733(c)(1)(B)(ii) of the Act.

In the investigation of certain steel grating, one of the respondents has submitted a novel reporting methodology for its U.S. sales, and the Department may require additional information from the respondent in order to obtain complete and appropriate data on the record to calculate an accurate dumping margin with respect to the respondent's U.S. sales. The Department can only complete its analysis and gather all of the necessary information by postponing the preliminary determination. Therefore, it is the Department's decision to postpone the current preliminary determination so that all of the issues currently under investigation at this time can be addressed in the most complete manner possible.

For the reasons identified above, we are postponing the preliminary determination under section 733(c)(1)(B) of the Act, by 50 days to no later than December 28, 2009. The deadline for the final determination will continue to be 75 days after the date of the preliminary determination, unless extended.

This notice is issued and published pursuant to sections 733(c)(2), 733(f) and 777(i) of the Act.

Dated: October 16, 2009.
Ronald K. Lorentzen,
Acting Assistant Secretary for Antidumping and Countervailing Duty Operations.

[FR Doc. E9-25444 Filed 10-21-09; 8:45 am]

BILLING CODE 3510-DS-S